DEPARTMENT OF VETERANS AFFAIRS

[OMB Control No. 2900-0160]

Agency Information Collection Activity Under OMB Review: State Home Programs for Veterans

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden, and it includes the actual data collection instrument.

DATES: Comments must be submitted on or before November 22, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0160” in any correspondence.

FOR FURTHER INFORMATION CONTACT: Danny S. Green, Office of Quality, Performance and Risk (OQPR), Department of Veterans Affairs, 810 Vermont Avenue NW, Washington, DC 20420, (202) 421-1354 or email danny.green2@va.gov Please refer to “OMB Control No. 2900-0160” in any correspondence.

SUPPLEMENTARY INFORMATION:

Authority: 44 U.S.C. 3501-21.

Title: State Home Programs for Veterans (VA Forms 10-5588, 10-5588A, and 10-10SH).

OMB Control Number: 2900-0160.

Type of Review: Reinstatement with change of a previously approved collection.

Abstract: Congress passed Public Law 115-159, the State Veterans Home Adult Day Health Care Improvement Act of 2017, requiring VA to pay State homes for medical model adult day health care to certain eligible Veterans, and Title 38, CFR part 52, which provides for the payment of per diem to State homes that provide adult day health care to eligible Veterans. It also continues to provide for the payment of per diem to State homes that provide care to eligible Veterans in accordance with Title 38, CFR part 51. The intended effect of these provisions is to provide a safeguard that Veterans are receiving high quality care in State homes.

This information collection is necessary to ensure that VA per diem payments are limited to facilities providing high quality care. To verify this level of care, VA requires those facilities providing nursing home care, domiciliary, and adult day health care programs to Veterans to supply various kinds of information. The information required includes an application/eligibility for admission and justification for payment; records and reports which facility management must maintain regarding activities of payment for eligible residents or participants; and the records and reports that facilities management and health care professionals must maintain regarding the level of care approved for residents or participants.

This OMB Control Number previously included six additional forms, VA Forms 10-0460, 10-0143, 10-0143A, 10-0144, 10-0144A, and 10-3567, which have now been separated out into another information collection (to be approved under a separate OMB Control Number). This information collection, under OMB Control Number 2900-0160, now includes only three forms: VA Forms 10-5588, 10-5588A, and 10-10SH.

a. VA Form 10-5588: State Home Report and Statement of Federal Aid Claimed—38 CFR 51, 52 and Title 38, U.S.C., Sections 1741, 1742, 1743 and 1745—is used to assess and provide per diem to State homes. This collection is used by the State home employees and VA Staff.

b. VA Form 10-5588A: Claim for Increased Per Diem Payment for Veterans Awarded Retroactive Service Connection—38 CFR 51, 52 and Title 38, U.S.C., Sections 1741, 1742, 1743 and 1745—is used to assess and provide per diem to State homes retroactively. This collection is used by the State home employees and VA Staff.

c. VA Form 10-10SH: State Home Program Application for Veterans Care Medical Certification—38 CFR 51, 52 and Title 38, U.S.C., Sections 1741, 1742, 1743 and 1745—provides for the collection of information to apply for the benefits of this program.

An agency may not conduct or sponsor, and a person is not required to respond to, a collection of information unless it displays a currently valid OMB control number. The Federal Register Notice with a 60-day comment period soliciting comments on this collection of information was published at 84 FR 37016 on July 30, 2019, pages 37016 and 37017.

VA Form 10-5588

Affected Public: State, Local, and Tribal Governments.

Estimated Annual Burden: 834 hours.

Estimated Average Burden per Respondent: 30 minutes.

Frequency of Response: Monthly.

Estimated Number of Respondents: 1,668.

VA Form 10-5588A

Affected Public: State, Local, and Tribal Governments.

Estimated Annual Burden: 180 hours.

Estimated Average Burden per Respondent: 20 minutes.

Frequency of Response: Monthly.

Estimated Number of Respondents: 540.

VA Form 10-10SH

Affected Public: State, Local, and Tribal Governments.

Estimated Annual Burden: 3,802 hours.

Estimated Average Burden per Respondent: 20 minutes.

Frequency of Response: Once annually.

Estimated Number of Respondents: 11,406.

By direction of the Secretary.
Danny S. Green,
Interim VA Clearance Officer, Office of Quality, Performance and Risk (OQPR), Department of Veterans Affairs.

[FR Doc. 2019-23043 Filed 10-22-19; 8:45 am]

BILLING CODE 8320-01-P